DEPARTMENT OF AGRICULTURE

Food Safety and Inspection Service

[Docket No. 03-044N]

Codex Alimentarius Commission: Twenty-sixth Session of the Codex Committee on Methods of Analysis and Sampling

AGENCY: Food Safety and Inspection Service, USDA.

ACTION: Notice of public meeting and request for comments.

SUMMARY: The Office of the Under Secretary for Food Safety, of the U.S. Department of Agriculture and the Food and Drug Administration, of the Department of Health and Human Services, are sponsoring a public meeting on February 10, 2004, to review the technical contents of the agenda item documents and to receive comments on all issues coming before the Twenty-sixth Session of the Codex Committee on Methods of Analysis and Sampling, which will be held in Budapest, Hungary, March 8-12, 2004.

DATES: The public meeting is scheduled for Tuesday, February 10, 2004 from 10 a.m. to 11:30 a.m.

ADDRESSES: The public meeting will be held in the Harvey Wiley Federal Building, 5100 Paint Branch Parkway, College Park, Maryland 20740, Conference Room 1A 002.

To receive copies of the documents relevant to this notice, contact the Food Safety and Inspection Service (FSIS) Docket Clerk, U.S. Department of Agriculture, Food Safety and Inspection Service, Room 102, Cotton Annex, 300 12th Street SW., Washington, DC 20250-3700. The documents will also be accessible via the World Wide Web at the following address: http://www.codexalimentarius.net.

Send comments (an original and two copies) to the FSIS Docket Clerk and reference Docket #03-044N. All comments submitted in response to this notice will be available for public inspection in the FSIS Docket Room between 8:30 a.m. and 4:30 p.m., Monday through Friday.

FOR FURTHER INFORMATION CONTACT: Syed Amjad Ali, International Issues Analyst, U.S. Codex Office, FSIS, Room 4861, South Agriculture Building, 1400 Independence Avenue, SW., Washington, DC 20250-3700, telephone (202) 205-7760; Fax (202) 720-3157. Persons requiring a sign language interpreter or other special accommodations should notify Dr. Gregory Diachenko, Director, Division of Chemistry Research and Environmental Review, FDA, at telephone (301) 436-1898; Fax (301) 436-2634.

SUPPLEMENTARY INFORMATION:

Background

The Codex Alimentarius Commission (Codex) was established in 1962 by two United Nations organizations, the Food and Agriculture Organization and the World Health Organization. Codex is the major international organization for encouraging fair international trade in food and protecting the health and economic interests of consumers. Through adoption of food standards, codes of practice and other guidelines developed by its committees, and by promoting their adoption and implementation by governments, Codex seeks to ensure that the world's food supply is sound, wholesome, free from adulteration, and correctly labeled. The Codex Committee on Methods of Analysis and Sampling (CCMAS) performs multiple functions; defines criteria appropriate for Codex Methods of Analysis and Sampling; specifies reference methods of analysis and sampling; endorses methods of analysis and sampling proposed by Codex Committees; elaborates sampling plans; and considers specific sampling and analysis problems. The Government of Hungary hosts this committee and will chair the Committee meeting.

Issues To Be Discussed at the Public Meeting

The following specific issues will be discussed during the public meeting:

• Matters referred by the Codex Alimentarius Commission and other Codex Committees.

• Proposed Draft General Guidelines on Sampling.

• Proposed Draft Guidelines on Measurement Uncertainty.

• Proposed Draft Guidelines for Evaluating Acceptable Methods of Analysis.

• Proposed Draft Guidelines for Settling Disputes on Analytical (Test) Results.

• Criteria for Methods of Analysis for Foods Derived from Biotechnology.

• The Use of Analytical Results: Sampling, Relationship between the Analytical Results, the Measurement Uncertainty, Recovery Factors and the Provisions in Codex Standards.

• Endorsement of Methods of Analysis and Sampling, including General Methods Provisions in Codex Standards.

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the FSIS web page located at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and web page, FSIS is able to provide information to a much broader, more diverse audience.

For more information contact the Congressional and Public Affairs Office, at (202) 720-9113. To be added to the free e-mail subscription service (Listserv) go to the “Constituent Update” page on the FSIS Web site at http://www.fsis.usda.gov/oa/update/update.htm. Click on the “Subscribe to the Constituent Update Listserv” link, then fill out and submit the form.

Done at Washington, DC, on January 29, 2004.
F. Edward Scarbrough,
U.S. Manager for Codex Alimentarius.

[FR Doc. 04-2132 Filed 2-2-04; 8:45 am]

BILLING CODE 3410-DM-P